DEPARTMENT OF AGRICULTURE

Animal and Plant Health Inspection Service

7 CFR Parts 319, 330, and 340

[Docket No. 03-002-2]

Importation of Nursery Stock

AGENCY: Animal and Plant Health Inspection Service, USDA.

ACTION: Proposed rule; reopening of comment period.

SUMMARY: We are reopening the comment period for our proposed rule that would make several changes to the nursery stock regulations. This action will allow interested persons additional time to prepare and submit comments.

DATES: We will consider all comments that we receive on or before March 31, 2006.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2005-0081 to submit or view public comments and to view supporting and related materials available electronically. After the close of the comment period, the docket can be viewed using the “Advanced Search” function in Regulations.gov.

• Postal Mail/Commercial Delivery: Please send four copies of your comment (an original and three copies) to Docket No. 03-002-1, Regulatory Analysis and Development, PPD, APHIS, Station 3A-03.8, 4700 River Road Unit 118, Riverdale, MD 20737-1238. Please state that your comment refers to Docket No. 03-002-1.

Reading Room: You may read any comments that we receive on Docket No. 03-002-1 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Arnold T. Tschanz, Senior Import Specialist, Commodity Import Analysis and Operations, PPQ, APHIS, 4700 River Road Unit 133, Riverdale, MD 20737-1236; (301) 734-5306.

SUPPLEMENTARY INFORMATION: On December 15, 2005, we published in the Federal Register (70 FR 74215-74235, Docket No. 03-002-1) a proposed rule that would make several amendments to the nursery stock regulations, including changes to eliminate various restrictions on the importation of plants in vitro and kenaf seed; to establish programs for the importation of approved plants from the Canary Islands and from Israel; to require an additional declaration on the phytosanitary certificate accompanying blueberry plants imported from Canada; to require that phytosanitary certificates include the genus and species names of the restricted articles they accompany; to change the phytosanitary certificate requirements for several restricted articles; to reduce the postentry quarantine growing period for Hydrangea spp. and for certain chrysanthemums; and to update the list of ports of entry and Federal plant inspection stations. We also proposed several other changes to update and clarify the regulations and improve their effectiveness.

Comments on the proposed rule were required to be received on or before February 13, 2006. We are reopening the comment period on Docket No. 03-002-1 until March 31, 2006. This action will allow interested persons additional time to prepare and submit comments. We will also consider all comments received between February 14, 2006, and the date of this notice.

Authority: 7 U.S.C. 450, 7701-7772, and 7781-7786; 21 U.S.C. 136 and 136a; 7 CFR 2.22, 2.80, and 371.3.

Done in Washington, DC, this 22nd day of February 2006.
Kevin Shea,
Acting Administrator, Animal and Plant Health Inspection Service.

[FR Doc. E6-2773 Filed 2-27-06; 8:45 am]

BILLING CODE 3410-34-P